DEPARTMENT OF HEALTH AND HUMAN SERVICES

Agency for Healthcare Research and Quality

Notice of Meetings

AGENCY: Agency for Healthcare Research and Quality (AHRQ), HHS.

ACTION: Notice of Five AHRQ Subcommittee Meetings.

SUMMARY: The subcommittees listed below are part of AHRQ's Health Services Research Initial Review Group Committee. Grant applications are to be reviewed and discussed at these meetings. Each subcommittee meeting will commence in open session before closing to the public for the duration of the meeting.

DATES: See below for dates of meetings:

1. Healthcare Safety and Quality Improvement Research (HSQR)

Date: February 21-22, 2018 (Open from 7:30 a.m. to 8:00 a.m. on February 21st and closed for remainder of the meeting).

2. Healthcare Information Technology Research (HITR)

Date: February 21-23, 2018 (Open from 5:00 p.m. to 5:30 p.m. on February 21st and closed for remainder of the meeting).

3. Health Care Research and Training (HCRT)

Date: February 22-23, 2018 (Open from 8:00 a.m. to 8:30 a.m. on February 22nd and closed for remainder of the meeting).

4. Health System and Value Research (HSVR)

Date: February 28-March 1, 2018 (Open from 8:00 a.m. to 8:30 a.m. on February 28th and closed for remainder of the meeting).

5. Healthcare Effectiveness and Outcomes Research (HEOR)

Date: February 28-March 1, 2018 (Open from 8:30 a.m. to 9:00 a.m. on February 28th and closed for remainder of the meeting).

ADDRESSES: (below specifics where each meeting will be held)

Hilton Rockville & Executive Meeting Center, 1750 Rockville Pike, Rockville, Maryland 20852.

FOR FURTHER INFORMATION CONTACT: (to obtain a roster of members, agenda or minutes of the non-confidential portions of the meetings.)

Mrs. Bonnie Campbell, Committee Management Officer, Office of Extramural Research Education and Priority Populations, Agency for Healthcare Research and Quality (AHRQ), 5600 Fishers Lane, Rockville, Maryland 20857, Telephone (301) 427-1554.

SUPPLEMENTARY INFORMATION: These meetings will be closed to the public in accordance with 5 U.S.C. App. 2 section 10(d), 5 U.S.C. 552b(c)(4), and 5 U.S.C. 552b(c)(6). In accordance with section 10 (a)(2) of the Federal Advisory Committee Act (5 U.S.C. App. 2), AHRQ announces meetings of the above-listed scientific peer review groups, which are subcommittees of AHRQ's Health Services Research Initial Review Group Committees. Each subcommittee meeting will commence in open session before closing to the public for the duration of the meeting. The subcommittee meetings will be closed to the public in accordance with the provisions set forth in 5 U.S.C. App. 2 section 10(d), 5 U.S.C. 552b(c)(4), and 5 U.S.C. 552b(c)(6) The grant applications and the discussions could disclose confidential trade secrets or commercial property such as patentable material, and personal information concerning individuals associated with the grant applications, the disclosure of which would constitute a clearly unwarranted invasion of personal privacy.

Agenda items for these meetings are subject to change as priorities dictate.

Dated: January 25, 2018.
Gopal Khanna,
Director.

[FR Doc. 2018-01814 Filed 1-30-18; 8:45 am]

BILLING CODE 4160-90-P